DEPARTMENT OF ENERGY

Federal Energy Regulatory Commission

[Docket No.CP21-14-000]

Adelphia Gateway, LLC; Notice of Effectiveness of Withdrawal of Application

On December 7, 2020, Adelphia Gateway, LLC (Adelphia) filed a prior notice application to construct and operate a 3,000-horsepower compressor unit at its Marcus Hook Compressor Station in Delaware County, Pennsylvania. On October 12, 2021, Adelphia filed a notice of withdrawal of its application. No motion in opposition to the notice of withdrawal has been filed, and the Commission has taken no action to disallow the withdrawal. Pursuant to Rule 216(b) of the Commission's Rules of Practice and Procedure,¹ the withdrawal of the application became effective on October 28, 2021, and this proceeding is hereby terminated.

¹ 18 CFR 385.216(b) (2020).

Dated: November 1, 2021.
Kimberly D. Bose,
Secretary.

[FR Doc. 2021-24230 Filed 11-4-21; 8:45 am]

BILLING CODE 6717-01-P